OFFICE OF PERSONNEL MANAGEMENT

Excepted Service

AGENCY: U.S. Office of Personnel Management (OPM).

ACTION: Notice.

SUMMARY: This gives notice of OPM decisions granting authority to make appointments under Schedules A, B, and C in the excepted service as required by 5 CFR 6.6 and 213.103.

FOR FURTHER INFORMATION CONTACT: C. Penn, Group Manager, Executive Resources Services Group, Center for Human Resources, Division for Human Capital Leadership and Merit System Accountability, 202-606-2246.

SUPPLEMENTARY INFORMATION: Appearing in the listing below are the individual authorities established under Schedules A, B, and C between April 1, 2008, and April 30, 2008. Future notices will be published on the fourth Tuesday of each month, or as soon as possible thereafter. A consolidated listing of all authorities as of June 30 is published each year.

Schedule A

Revocation

Schedule A 213.3170(a), Millennium Challenge Corporation

All positions established to create the Millennium Challenge Corporation. No new appointments may be made under this authority after September 30, 2007. Effective 4-26-2008.

Schedule B

No Schedule B appointments were approved for April 2008.

Schedule C

The following Schedule C appointments were approved during April 2008.

Section 213.3303 Executive Office of the President

Office of Management and Budget

BOGS00151 Deputy Press Secretary to the Associate Director for Communications. Effective April 04, 2008.

BOGS80007 Confidential Assistant to the Administrator, E-Government and Information Technology. Effective April 16, 2008.

Section 213.3304 Department of State

DSGS69729 Special Advisor to the Women's Rights Coordinator. Effective April 8, 2008.

DSGS69731 Staff Assistant to the Counselor. Effective April 10, 2008.

DSGS69732 Staff Assistant to the Director, Policy Planning Staff. Effective April 11, 2008.

DSGS69733 Staff Assistant to the Under Secretary for Public Diplomacy and Public Affairs. Effective April 16, 2008.

DSGS69737 Special Assistant to the Assistant Secretary, Bureau of Educational and Cultural Affairs. Effective April 18, 2008.

DSGS69738 Public Affairs Specialist (Speechwriter) to the Deputy Assistant Secretary. Effective April 22, 2008.

DSGS69740 Special Assistant to the Under Secretary for Global Affairs. Effective April 24, 2008.

DSGS69739 Policy Advisor and Chief Speechwriter to the Deputy Director (Principal). Effective April 28, 2008.

DSGS69736 Deputy Director to the Principal Deputy Assistant Secretary. Effective April 29, 2008.

Section 213.3306 Department of Defense

DDGS17147 Special Assistant to the Principal Deputy Assistant Secretary of Defense (Global Security Affairs). Effective April 11, 2008.

DDGS17151 Special Assistant to the Secretary of Defense for Protocol. Effective April 16, 2008.

DDGS17152 Executive Assistant to the Special Assistant to the Secretary of Defense for White House Liaison. Effective April 18, 2008.

DDGS17154 Special Assistant to the Director, Department of Defense Office of Legislative Counsel. Effective April 18, 2008.

DDGS17150 Special Assistant to the Special Assistant to the Secretary and Deputy Secretary of Defense. Effective April 24, 2008.

DDGS17146 Special Assistant to the Assistant Secretary of Defense (Legislative Affairs). Effective April 29, 2008.

DDGS17153 Staff Assistant to the Special Assistant to the Secretary of Defense for White House Liaison. Effective April 29, 2008.

DDGS17155 Defense Fellow to the Special Assistant to the Secretary of Defense for White House Liaison. Effective April 29, 2008.

Section 213.3310 Department of Justice

DJGS00087 Senior Policy Advisor to the Director of the Violence Against Women Office. Effective April 07, 2008.

DJGS00090 Chief of Staff and Counsel to the Assistant Attorney General. Effective April 18, 2008.

DJGS00111 Deputy Chief of Staff to the Assistant Attorney General. Effective April 24, 2008.

DJGS00095 Confidential Assistant to the Director, Bureau of Alcohol, Tobacco, Firearms, and Explosives. Effective April 29, 2008.

Section 213.3311 Department of Homeland Security

DMGS00747 Policy Advisor to the Deputy Administrator, Federal Emergency Management Agency. Effective April 11, 2008.

DMGS00749 Confidential Assistant to the Counselors to the Secretary. Effective April 18, 2008.

DMGS00748 Confidential Assistant to the Director, Bureau of Citizenship and Immigration Services. Effective April 24, 2008.

Section 213.3312 Department of the Interior

DIGS01122 Special Assistant to the White House Liaison. Effective April 16, 2008.

DIGS01123 Science Advisor to the Assistant Secretary for Water and Science. Effective April 29, 2008.

DIGS01124 Media Relations Specialist to the Director, Office of Communications. Effective April 29, 2008.

Section 213.3313 Department of Agriculture

DAGS00934 Director of Native American Programs to the Assistant Secretary for Congressional Relations. Effective April 01, 2008.

Section 213.3314 Department of Commerce

DCGS60664 Special Assistant to the Assistant Secretary and Director General of United States/For Commercial Services. Effective April 04, 2008.

DCGS00664 Special Assistant to the Director, Advocacy Center. Effective April 09, 2008.

DCGS00418 Special Assistant to the Under Secretary for Economic Affairs. Effective April 11, 2008.

DCGS00460 Director of Intergovernmental Affairs to the Assistant Secretary for Legislative and Intergovernmental Affairs. Effective April 24, 2008.

DCGS00476 Deputy Director, Executive Secretariat to the Director, Executive Secretariat. Effective April 24, 2008.

DCGS60001 Deputy Director, Office of Business Liaison to the Director, Office of Business Liaison. Effective April 24, 2008.

DCGS60512 Senior Advisor to the Under Secretary of Commerce for Industry and Security. Effective April 24, 2008.

Section 213.3315 Department of Labor

DLGS60239 Special Assistant to the Director of Scheduling. Effective April 15, 2008.

Section 213.3316 Department of Health and Human Services

DHGS60570 Confidential Assistant (Advance) to the Deputy Director for Advance. Effective April 18, 2008.

DHGS60029 Special Assistant to the Assistant Secretary for Public Affairs. Effective April 29, 2008.

Section 213.3317 Department of Education

DBGS00661 Special Assistant to the Director, Scheduling and Advance Staff. Effective April 09, 2008.

DBGS00665 Confidential Assistant to the Deputy Assistant Secretary. Effective April 11, 2008.

DBGS00298 Confidential Assistant to the Deputy Chief of Staff for Policy and Programs. Effective April 15, 2008.

Section 213.3331 Department of Energy

DEGS00646 Special Assistant to the Chief Financial Officer. Effective April 18, 2008.

Section 213.3332 Small Business Administration

SBGS00661 Policy Analyst to the Assistant Administrator for Policy and Strategic Planning. Effective April 01, 2008.

SBGS00656 Congressional Liaison to the Assistant Administrator for Congressional and Legislative Affairs. Effective April 02, 2008.

SBGS00659 Special Assistant to the Associate Administrator for Field Operations the Office of Field Operations. Effective April 02, 2008.

SBGS00658 Speechwriter to the Deputy Associate Administrator for the Office of Communications and Public Liaison. Effective April 8, 2008.

Section 213.3337 General Services Administration

GSGS50120 Public Affairs Specialist to the Deputy Associate Administrator for Communications. Effective April 8, 2008.

Section 213.3346 Selective Service System

SSGS03464 Management Analyst to the Director Selective Service System. Effective April 04, 2008.

Section 213.3348 National Aeronautics and Space Administration

NNGS15001 Special Assistant to the Chief Financial Officer. Effective April 02, 2008.

Section 213.3360 Consumer Product Safety Commission

PSGS60001 Special Assistant (Legal) to the Commissioner. Effective April 11, 2008.

Section 213.3384 Department of Housing and Urban Development

DUGS60595 Congressional Relations Assistant to the Assistant Secretary for Congressional and Intergovernmental Relations. Effective April 09, 2008.

DUGS60326 Staff Assistant to the Assistant to the Secretary/White House Liaison. Effective April 24, 2008.

Section 213.3391 Office of Personnel Management

PMGS30249 Congressional Relations Officer to the Director, Office of Congressional Relations. Effective April 7, 2008.

Section 213.3394 Department of Transportation

DTGS60451 Director of Communications to the Administrator. Effective April 02, 2008.

DTGS60202 Special Assistant to the Administrator. Effective April 15, 2008.

Authority: 5 U.S.C. 3301 and 3302; E.O. 10577, 3 CFR 1954-1958 Comp., p. 218.

U.S. Office of Personnel Management.
Howard C. Weizmann,
Deputy Director.

[FR Doc. E8-12826 Filed 6-6-08; 8:45 am]

BILLING CODE 6325-39-P